DEPARTMENT OF HOMELAND SECURITY

Federal Emergency Management Agency

[Docket ID: FEMA-2024-0032; OMB No. 1660-NW178]

Agency Information Collection Activities: Proposed Collection, Comment Request; CBRNResponder Network

AGENCY: Federal Emergency Management Agency, Department of Homeland Security.

ACTION: 60-Day Notice of New Collection and Request for Comments.

SUMMARY: The Federal Emergency Management Agency (FEMA), as part of its continuing effort to reduce paperwork and respondent burden, invites the general public to take this opportunity to comment on an existing information collection in use without an OMB control number. In accordance with the requirements of the Paperwork Reduction Act of 1995, this notice seeks comments concerning allowing first responders and other response organizations to create accounts and share hazard specific data in the event of a chemical, biological, radiological, or nuclear (CBRN) disaster.

DATES: Comments must be submitted on or before April 13, 2026.

ADDRESSES: To avoid duplicate submissions to the docket, please submit comments at http://www.regulations.gov under Docket ID FEMA-2024-0032. Follow the instructions for submitting comments.

All submissions received must include the Agency name and Docket ID. Regardless of the method used to submitting comments or material, all submissions will be posted, without change, to the Federal eRulemaking Portal at http://www.regulations.gov, and will include any personal information you provide. Therefore, submitting this information makes it public. You may wish to read the Privacy and Security Notice that is available via a link on the homepage of http://www.regulations.gov.

FOR FURTHER INFORMATION CONTACT: Joselito Ignacio, Acting Director and Public Health Advisor, Office of Emerging Threats, 202-212-5710, and joselito.ignacio@fema.dhs.gov or Diane Cooper, Senior Risk Analyst, Office of Emerging Threats, 202-701-4521, and diane.cooper@fema.dhs.gov. You may contact the Information Management Division for copies of the proposed collection of information at email address: FEMA-Information-Collections-Management@fema.dhs.gov.

SUPPLEMENTARY INFORMATION: FEMA's CBRNResponder new user request, new organization request and hazard specific data input forms bring together both Federal and State partners in the unified response to a chemical, biological, radiological, or nuclear disaster. These collections meet the requirements set forth in the Homeland Security Act of 2002, Public Health Security and Bioterrorism Preparedness and Response Act of 2002, the Homeland Security and Presidential Directive HSPD-5, Presidential Policy Directive 44, Memorandum of Agreement between DHS and FEMA operations and coordination, the National Oil and Hazardous Substances Pollution Contingency Plan, the National Response Framework and the Nuclear/Radiological Annex. Responders across the country can opt into this service and utilize its tools to create a common operating picture and streamline a unified response. This occurs when a first responder signs up for an account, joins their local organization and responds to a disaster utilizing the tool.

Collection of Information

Title: CBRNResponder Network.

Type of Information Collection: Existing information collection in use without an OMB control number.

OMB Number: 1660-NW178.

FEMA Forms: FEMA Form FF-104-FY-24-125, New Users Request for an Account; FEMA Form FF-104-FY-24-124, New User Request for an Organization; and FEMA Form FF-104-FY-24-126, Users Submitting Hazard Specific Data.

Abstract: The collection of this information is primarily for State and local response organizations and the first responders that support incidents. This information will inform State and locals, as well as their partner agencies, of the actual hazard and amounts of that hazard on the ground, in the water, and in the air. The data will also be viewable in the CBRNResponder Network to Federal agencies that have a supporting role to a CBRN incident. In addition, the data may be distributed to Federal Partners if a Federal Partner requests the information to support incident response and recovery activities.

Affected Public: State, local or Tribal Governments.

Estimated Number of Respondents: 2,550.

Estimated Number of Responses: 2,550.

Estimated Total Annual Burden Hours: 81.

Estimated Total Annual Respondent Cost: $4,031.

Estimated Respondents' Operation and Maintenance Costs: $0.

Estimated Respondents' Capital and Start-Up Costs: $0.

Estimated Total Annual Cost to the Federal Government: $19,815.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Nigel S. Allicock,
Records Management Branch Chief, Office of the Chief Administrative Officer, Mission Support, Federal Emergency Management Agency, Department of Homeland Security.

[FR Doc. 2026-02684 Filed 2-10-26; 8:45 am]

BILLING CODE 9111-24-P